DEPARTMENT OF HEALTH AND HUMAN SERVICES

Administration for Children and Families

Submission for OMB Review; Comment Request

Title: Child Support Document Exchange System (CSDES)

OMB No.: New Collection

Description: The federal Office of Child Support Enforcement (OCSE) is implementing a new application, the Child Support Document Exchange System (CSDES), within the Federal Parent Locator Service (FPLS) Child Support Services Portal (CSSP). The CSDES will collect and maintain certain child and spousal support case-related records provided by a state IV-D child support agency to facilitate the dissemination of IV-D child and spousal support information to authorized users acting on behalf of a state IV-D child support agency.

42 U.S.C. 666(c)(1)(A)(B)(C) and (D) and 42 U.S.C. 653(a)(1).

The purpose of the information collection is to provide technical assistance to the states to help them establish effective systems for collecting child and spousal support.

42 U.S.C. 652(a)(7). This will help state IV-D agencies in fulfilling the federal requirement to transmit requests for child support case information and provide requested information electronically to the greatest extent possible.

45 CFR 303.7(a)(5).

It is anticipated that the implementation of the CSDES will reduce delays, costs, and barriers associated with interstate case processing; increase state collections; improve document security; standardize data sharing; and increase state participation; thereby improving overall child and spousal support outcomes.

Respondents: State Child Support Agencies.

Annual Burden Estimates
Instrument | Number of respondents | Number of responses per respondent | Average burden hours per response | Total burden hours
Data Entry Screens | 52 | 4,272 | .0166667 (60 seconds) | 3,702.41
Batch Processing | 2 | 1 | 40 | 80.00

Estimated Total Annual Burden Hours: 3,782.41.

Additional Information: Copies of the proposed collection may be obtained by writing to The Administration for Children and Families, Office of Information Services, 370 L'Enfant Promenade SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street NW., Washington, DC 20503, Attn: Desk Officer for ACF.

Robert Sargis,
Reports Clearance Officer.

[FR Doc. 2013-03807 Filed 2-19-13; 8:45 am]

BILLING CODE 4184-01-P